DEPARTMENT OF THE INTERIOR

Bureau of Land Management

[BLM_CO_FRN_MO4500174287; COC 028580]

Public Land Order No. 7941; Partial Withdrawal Revocation, Power Site Reserve No. 244; Colorado

AGENCY: Bureau of Land Management, Interior.

ACTION: Public land order.

SUMMARY: This order partially revokes a withdrawal created by Executive Order dated February 17, 1912, which established Power Site Reserve (PSR) No. 244, insofar as it affects 7.55 acres and releases these acres from applicability of section 24 of the Federal Power Act. This order opens the lands to sale under section 203 of the Federal Land Policy and Management Act of 1976, as amended (FLPMA), subject to valid existing rights, the provisions of existing withdrawals, other segregations of record, and the requirements of applicable law.

DATES: This public land order takes effect on May 10, 2024.

ADDRESSES: Comments and meeting requests should be sent to State Director, Bureau of Land Management, Colorado State Office, P.O. Box 151029, Lakewood, Colorado 80215. Information regarding the proposed withdrawal, including environmental and other reviews, will be available at the Colorado State Office.

FOR FURTHER INFORMATION CONTACT: Jennifer Jardine, Senior Realty Specialist, BLM Colorado State Office, telephone: (970) 385-1224; email: jjardine@blm.gov. Individuals in the United States who are deaf, deafblind, hard of hearing, or have a speech disability may dial 711 (TTY, TDD, or TeleBraille) to access telecommunications relay services for contacting Ms. Jardine. Individuals outside the United States should use the relay services offered within their country to make international calls to the point-of-contact in the United States.

SUPPLEMENTARY INFORMATION: The Bureau of Land Management (BLM) requested partial revocation affecting portions of PSR No. 244, classified for potential power site development. The BLM, in consultation with the Federal Energy Regulatory Commission, determined that the interests of the United States will not be injured by conveyance of the land out of Federal ownership, without reservation. This order opens the lands described within PSR No. 244 to sale under section 203 of FLPMA.

Order

By virtue of the authority vested in the Secretary of the Interior by section 204 of the Federal Land Policy and Management Act of 1976, 43 U.S.C. 1714, and pursuant to the determination by the Federal Energy Regulatory Commission, it is ordered as follows:

1. The withdrawal created by Executive order dated February 17, 1912, which established PSR No. 244, is hereby revoked in part as to the following described lands:

6th Principal Meridian, Colorado

T. 4 S., R. 86 W.,

Sec. 9, lots 18 and 28.

The area described contains 7.55 acres.

2. The provisions of section 24 of the Federal Power Act no longer apply to the land described in paragraph 1.

3. At 9 a.m. on May 10, 2024, the lands described in Paragraph 1 are opened to sale under section 203 of the Federal Land Policy and Management Act of 1976, as amended (43 U.S.C. 1713), subject to valid existing rights, the provisions of existing withdrawals, other segregations of record, and the requirements of applicable law.

(Authority: 43 U.S.C. 1714)

Robert T. Anderson,
Solicitor.

[FR Doc. 2024-10213 Filed 5-9-24; 8:45 am]

BILLING CODE 4331-16-P